COMMITTEE FOR THE IMPLEMENTATION OF TEXTILE AGREEMENTS

Announcement of Paperless ELVIS (Electronic Visa Information System) Requirement and of Elimination of Paper Visa for Textiles and Textile Products Produced or Manufactured in the Republic of the Philippines

September 6, 2002.

AGENCY: Committee for the Implementation of Textile Agreements (CITA)

ACTION: Issuing a directive to the Commissioner of Customs eliminating the paper visa requirement.

EFFECTIVE DATE: September 15, 2002.

FOR FURTHER INFORMATION CONTACT: Anna Flaaten, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

Pursuant to a textile visa arrangement between the Governments of the United States and the Republic of the Philippines (Philippines), certain textiles and textile products exported from the Philippines must be accompanied by a visa issued by the Philippines in order to be imported into the United States. See 44 FR 68005 (November 28, 1979). The Electronic Visa Information System (ELVIS) allows certain foreign governments to electronically transfer textile and textile product shipment information to the U.S. Customs Service and thereby issue a visa electronically. On August 18, 1997 (62 FR 43993), CITA announced that the Philippines would begin an ELVIS test implementation phase using both paper and electronic visas. On August 17, 2001, the Chairman of CITA requested public comment regarding elimination of the paper visa requirement for the Philippines and utilization of the ELVIS system exclusively. (66 FR 43227)

On May 21, 2002, the Governments of the United States and the Philippines signed an ELVIS Arrangement. Under this Arrangement, a paper visa is no longer required, as an electronic transmission certifies the country of origin and authorizes the shipment to be charged against any applicable quota.

In the letter published below, the Chairman of CITA directs the Commissioner of Customs to eliminate the paper visa requirement for textiles and textile products, produced or manufactured in the Philippines and exported on or after September 15, 2002. Each shipment of textiles and textile products, as defined in the Arrangement, must be accompanied by an ELVIS transmission issued by the Philippines for products exported on or after September 15, 2002.

Interested persons are advised to take all necessary steps to ensure that textile products that are entered into the United States for consumption, or withdrawn from warehouse for consumption, will meet the visa requirements set forth in the letter published below to the Commissioner of Customs.

William J. Dulka,
Acting Chairman, Committee for the Implementation of Textile Agreements.

Committee for the Implementation of Textile Agreements

September 6, 2002.

Commissioner of Customs,

Department of the Treasury, Washington, DC 20229.

Dear Commissioner: This directive amends, but does not cancel, the directive issued to you on November 21, 1979, as amended, by the Chairman, Committee for the Implementation of Textile Agreements, that directed you to prohibit entry of certain cotton, wool and man-made fiber textile products, produced or manufactured in the Philippines for which the Government of the Republic of the Philippines (Philippines) has not issued an appropriate export visa.

Under the terms of section 204 of the Agricultural Act of 1956, as amended (7 U.S.C. 1854), Executive Order 11651 of March 3, 1972, as amended, the Uruguay Round Agreement on Textiles and Clothing (ATC); and pursuant to the Electronic Visa Information System (ELVIS) Arrangement dated May 21, 2002 between the Governments of the United States and the Republic of the Philippines, you are directed to prohibit, effective on September 15, 2002, entry into the Customs territory of the United States (i.e., the 50 states, the District of Columbia and the Commonwealth of Puerto Rico) for consumption and withdrawal from warehouse for consumption of cotton, wool, man-made fiber, silk blend and other vegetable fiber textiles and textile products in Categories 200-239, 300-369, 400-469, 600-670, and 800-899, including part categories and merged categories, and which are not eligible for the exemptions noted below, produced or manufactured in the Philippines and exported on or after September 15, 2002 for which the Philippines has not transmitted an appropriate ELVIS transmission fully described below. Further, you are directed, effective on September 15, 2002, no longer to require a paper visa for the entry of shipments of textiles and textile products, produced or manufactured in the Philippines and exported to the United States on or after September 15, 2002.

A. Each ELVIS transmission must include the following information:

i. The visa number. The visa number must be in the standard nine digit letter format, beginning with one numeric digit for the last digit of the year of export, followed by the two character alpha country code specified by the International Organization for Standardization (ISO) (the code for the Republic of the Philippines is “PH”), and a six digit numerical serial number identifying the shipment; e.g., 1PH123456.

ii. The date of issuance. The date of issuance must be the day, month and year on which the visa was issued.

iii. The correct category(s), part category(s), merged category(s), quantity(s) and unit(s) of quantity are provided for in the U.S. Department of Commerce correlation and in the Harmonized Tariff Schedules of the United States (HTS), e.g., “Cat. 340-510DZ”. Annex A lists all the part-category and merged category visas required for entry. Products covered by merged category quotas must be accompanied by either a merged category transmission or the correct category corresponding to the actual shipment, (e.g., quota category 333/334 may be transmitted in “category 333/334” or if the shipment consists solely of category 333 merchandise, the shipment may be accompanied by a transmission in “category 333” but not as “category 334.”). Quantities must be stated in whole numbers. Decimals or fractions will not be accepted.

iv. The manufacturer identification number (MID). The MID must begin with `PH,' followed by the first three characters from each of the first two words of the name of the manufacturer, followed by the largest number on the address line up to the first four digits, followed by the first three letters from the city name where the manufacturer is located.

B. Entry of a shipment shall not be permitted:

i. if an ELVIS transmission has not been received for the shipment from the Philippines;

ii. if the ELVIS transmission for that shipment is missing any of the following:

a. visa number

b. category, part category or merged category,

c. quantity,

d. unit of measure,

e. date of issuance, or

f. MID;

iii. if the ELVIS transmission for the shipment does not match the information supplied by the importer or by its representatives regarding:

a. visa number

b. category, part category, or merged category, or

c. unit of measure;

iv. if the quantity being entered is greater than the quantity in the transmission.

v. if the visa number has previously been used (except in the case of a split shipment) or canceled, except when an entry has already been made using the visa number.

C. A new, correct ELVIS transmission from the Philippines is required before a shipment that has been denied entry for one of the circumstances mentioned above will be released.

D. Visa waivers will only be considered if the shipment qualifies as a one-time special purpose shipment that is not part of an ongoing commercial enterprise. A visa waiver may be issued by the Department of Commerce at the request of the Philippine Embassy in Washington, D.C. for the Philippines. A visa waiver only waives the requirement to present an ELVIS transmission at entry and does not waive any quota requirements.

E. In the event of a systems failure, shipments will not be released for twenty-four hours or one calendar day. If system failure exceeds twenty-four hours or one calendar day, for the remaining period of the system failure the U.S. Customs Service will release shipments on the basis of the visa data provided by the Philippines.

Exempt Certification Requirements:

A. Shipments of the Philippine textile products listed below will be exempt from the levels of restraint (quotas) and ELVIS transmission requirements if they are certified, prior to exportation, by the Philippines as handmade or handicraft products as described below by the placing of an original rectangular-shaped stamped marking in blue ink on the front of the original commercial invoice. Exempt certification affixed to duplicate copies of the invoice shall not be accepted. The shipment must be accompanied by the original copy of the invoice with the original exempt certification for entry into the United States. The following products may be so certified:

1. Handmade articles and garments of handwoven and handloomed fabric: all items must be cut, sewn, or otherwise fabricated by hand in order to qualify for this exemption. They may not include machine stitching.

2. Traditional folklore handicraft products: “Philippine items” defined as items that are traditional Philippine products, cut, sewn or otherwise fabricated by hand in cottage units of the cottage industry and may not include machine stitching, including:

i. Batik and Hablon Fabrics - Handwoven by the cottage industry

ii. Banaue Cloth - Cotton handloom fabric in multi-colors

iii. Other handwoven and handloom fabrics of the cottage industry iv. Articles and garments made by hand from handwoven and handloomed fabrics

B. Requirements for exempt certification stamp: Each exempt certification stamp must include the following information:

1. Date of issuance

2. Signature of issuing official; and

3. The basis for the exemption must be noted as:

i. Handwoven fabric of handloomed fabric (whichever is appropriate)

ii. Handmade textile products, or

iii. The name of the particular traditional folklore handicraft product (Philippines items) as defined above.

C. Should a shipment be exported from the Philippines without an exempt certification issued prior to the date of exportation, or should the certification be incorrectly certified (i.e., the date of issuance, signature or basis for the exemption is missing, incorrect or illegible, or has been crossed out or altered in any way), then the exempt certification will not be accepted and entry shall not be permitted unless a visa waiver is obtained.

D. If the exempt certification does not meet these requirements, a visa waiver must be obtained prior to release of any portion of the shipment. An exempt certification may not be issued after the exportation of the shipment from the Philippines. The shipment will be charged to the appropriate quota level.

Other Provisions:

A. The date of export is the actual date the merchandise finally leaves the Philippines. For merchandise exported by carrier, this is the day on which the carrier last departs the Philippines.

B. Textile product integrated into the General Agreement on Tariffs and Trade 1994 by the United States in accordance with the WTO Agreement on Textiles and Clothing do not require a transmission.

C. Merchandise imported for personal use of the importer and not for resale, regardless of value, and properly marked commercial sample shipments valued at $800 dollars or less do not require a transmission or exempt certification for entry and shall not be charged to agreements levels.

The Committee for the Implementation of Textile Agreements has determined that these actions fall within the foreign affairs exception to the rulemaking provisions of 5 U.S.C. 553(a)(1). This letter will be published in the Federal Register.

Sincerely,

William J. Dulka,

Acting Chairman, Committee for the Implementation of Textile Agreements.

ANNEX A

The following is a list of merged categories visas:
331/631
333/334
338/339
340/640
341/641
342/642
347/348
351/651
352/652
359-C/659-C
359-O/659-O
445/446
638/639
645/646
647/648

The following is a list of part-category visas:
359-C
359-O (other than 359-C)
369-S
369-O (other than 369-S)
659-C
659-H
659-O (other than 659-C, 659-H)
669-P
669-O (other than 669-P)
670-L
670 O (other than 670-L)

[FR Doc. 02-23149 Filed 9-11-02; 8:45 am]

BILLING CODE 3510-DR-S